DEPARTMENT OF COMMERCE

International Trade Administration

[C-489-502]

Welded Carbon Steel Pipes and Tubes From Turkey; Final Results of Full Sunset Review

AGENCY: Import Administration, International Trade Administration, Department of Commerce.

ACTION: Notice of final results of full sunset review: welded carbon steel pipes and tubes from Turkey.

SUMMARY: On November 30, 1999, the Department of Commerce (“the Department”) published a notice of preliminary results of the full sunset review of the countervailing duty order on welded carbon steel pipes and tubes from Turkey (64 FR 66895) pursuant to section 751(c) of the Tariff Act of 1930, as amended (“the Act”). We provided interested parties an opportunity to comment on our preliminary results. We did not receive comments from either domestic or respondent interested parties. As a result of this review, the Department finds that revocation of this order would be likely to lead to continuation or recurrence of a countervailable subsidy at the levels indicated in the Final Results of Review section of this notice.

FOR FURTHER INFORMATION CONTACT: Kathryn B. McCormick or Melissa G. Skinner, Office of Policy for Import Administration, International Trade Administration, U.S. Department of Commerce, 14th Street and Constitution Avenue, NW, Washington, D.C. 20230; telephone: (202) 482-1930 or (202) 482-1560, respectively.

EFFECTIVE DATE: April 3, 2000.

Statute and Regulations

Unless otherwise indicated, all citations to the Act are references to the provisions effective January 1, 1995, the effective date of the amendments made to the Act by the Uruguay Round Agreements Act (“URAA”). In addition, unless otherwise indicated, all citations to the Department regulations are to 19 CFR Part 351 (1999). Guidance on methodological or analytical issues relevant to the Department's conduct of sunset reviews is set forth in the Department's Policy Bulletin 98.3—Policies Regarding the Conduct of Five-year (“Sunset”) Reviews of Antidumping and Countervailing Duty Orders; Policy Bulletin, 63 FR 18871 (April 16, 1998) (“Sunset Policy Bulletin”).

Background

On November 30, 1999, the Department of Commerce (“the Department”) published in the Federal Register a notice of preliminary results of the full sunset review of the countervailing duty order on welded carbon steel pipes and tubes from Turkey, pursuant to section 751(c) of the Act. In our preliminary results, we found that revocation of the order would be likely to lead to continuation or recurrence of countervailable subsidies, and we preliminarily determined the following net countervailable subsidies likely to prevail if the order were revoked:

Producer/exporter | Margin (percent)
Bant Boru | 0.00
Borusan Group | 0.68
Yucel Boru Group | 0.84
Erbosan | 2.89
All Others | 2.90

In addition, our preliminary results contained information on the nature of the subsidy. We did not receive a case brief on behalf of either domestic or respondent interested parties within the deadline specified in 19 CFR 351.309(c)(1)(i).

Scope of Review

This order covers shipments of Turkish welded carbon steel pipes and tubes, having an outside diameter of 0.375 inch or more, but not more than 16 inches, of any wall thickness. These products, commonly referred to in the industry as standard pipe and tube or structural tubing, are produced in accordance with various American Society Testing and Materials (ASTM) specifications, most notably A-53, A-120, A-500, or A-501. The subject merchandise was originally classifiable under item number 416.30 of the Tariff Schedules of the United States Annotated (“TSUSA”); currently, they are classifiable under item numbers 7306.30.10 and 7306.30.50 of the Harmonized Tariff Schedule of the United States (“HTSUS”). Although the TSUSA and HTSUS item numbers are provided for convenience and customs purposes, the written description remains dispositive.

Analysis of Comments Received

The Department did not receive case briefs from either domestic or respondent interested parties. Therefore, we have not made any changes to our preliminary results of November 30, 1999 (64 FR 66895).

Final Results of Preview

As a result of this review, the Department finds that revocation of the countervailing duty order would be likely to lead to continuation or recurrence of a countervailable subsidy at the levels listed below:

Producer/Exporter | Margin (percent)
Bant Boru | 0.00
Borusan Group | 0.68
Yucel Boru Group | 0.84
Erbosan | 2.89
All Others | 2.90

In addition, we are providing information on the nature of the countervailable subsidy programs with respect to Article 3.1 (a) or Article 6 of the Subsidies Agreement as contained in our preliminary results.

The Deduction from Taxable Income for Export Revenues and Pre-Shipment Export Credit programs fall within the definition of an export subsidy under Article 3.1(a) of the Subsidies Agreement because the receipt of benefit is contingent on export performance.

The remaining programs, although not falling within the definition of an export subsidy under Article 3.1(a) of the Subsidies Agreement, could be found to be inconsistent with Article 6 if the net countervailable subsidy exceeds five percent, as measured in accordance with Annex IV of the Subsidies Agreement. However, the Department has no information with which to make such a calculation, nor do we believe it appropriate to attempt such a calculation in the course of a sunset review. Rather, we are providing the Commission with the following program descriptions.

Foreign Exchange Loan Assistance. The Government of the Republic of Turkey (“GRT”) Resolution Number: 94/5782, Article 4, effective June 13, 1994, concerns the encouragement of exportation, allowing commercial banks to exempt certain fees provided that the loans are used in the financing of exportation and other foreign exchange earning activities. The exempted fees include a Resource Utilization Stabilization Fund fee of six percent of the loan principle, a Banking Insurance Tax equal to five percent of the interested and a stamp tax equal to 0.6 percent of the principal.¹

¹ See Certain Welded Carbon Steel Pipes and Tubes and Welded Carbon Steel Line Pipe from Turkey; Preliminary Results and Partial Rescission of Countervailing Duty Administrative Reviews, 62 FR 64808 (December 9, 1997).

Incentive Premium on Domestically Obtained Goods. Companies holding investment incentive certificates under the General Incentives Program (“GIP”) are eligible for a rebate of 15 percent VAT paid on locally-sourced machinery and equipment. Imported machinery and equipment are subject to the VAT and are not eligible for the rebate. These value added tax (“VAT”) rebates are countervailable subsidies within the meaning of section 771(5)(D)(ii) of the Act because the rebates constitute revenue foregone by the GRT, and they provide a benefit in the amount of the VAT savings to the company. Also, they are specific under section 771(5A)(C) because their receipt is contingent upon the use of domestic goods rather than imported goods (62 FR 64808, December 9, 1997).

This notice also serves as the only reminder to parties subject to administrative protective orders (“APO”) of their responsibility concerning the return or disposition of proprietary information disclosed under APO in accordance with 19 CFR 351.305 of the Department's regulations. Timely written notification of the return or destruction of APO materials or conversion to judicial protective order is hereby requested. Failure to comply with the regulations and terms of an APO is a violation which is subject to sanction.

This five-year (“sunset”) review and notice are in accordance with sections 751(c), 752, and 777(i)(1) of the Act.

Dated: March 28, 2000.
Joseph A. Spetrini,
Acting Assistant Secretary for Import Administration.

[FR Doc. 00-8157 Filed 3-31-00; 8:45 am]

BILLING CODE 3510-DS-P